DEPARTMENT OF ENERGY

Federal Energy Regulatory Commission

Combined Notice of Filings #1

Take notice that the Commission received the following exempt wholesale generator filings:

Docket Numbers: EG16-32-000

Applicants: Pasadena Cogen, LLC

Description: Notice of Self-Certification of Exempt Wholesale Generator Status of Pasadena Cogen, LLC.

Filed Date: 12/28/15

Accession Number: 20151228-5185

Comments Due: 5 p.m. ET 1/19/16

Take notice that the Commission received the following electric rate filings:

Docket Numbers: ER10-3079-010

Applicants: Tyr Energy LLC

Description: Updated Market Power Analysis of Tyr Energy, LLC.

Filed Date: 12/28/15

Accession Number: 20151228-5159

Comments Due: 5 p.m. ET 2/26/16

Docket Numbers: ER16-618-001; ER15-1015-002; ER12-957-001; ER12-1875-004; ER10-1840-004

Applicants: AltaGas San Joaquin Energy Inc., AltaGas Brush Energy Inc., AltaGas Renewable Energy Colorado LLC, AltaGas Ripon Energy Inc., Blythe Energy Inc.

Description: Notice of Non-Material Change in Status of Alta Wind I, LLC, et al.

Filed Date: 12/22/15

Accession Number: 20151222-5340

Comments Due: 5 p.m. ET 1/12/16

Docket Numbers: ER16-636-000

Applicants: Southwest Power Pool, Inc.

Description: Petition of Southwest Power Pool, Inc. for Tariff Waiver.

Filed Date: 12/24/15

Accession Number: 20151224-5049

Comments Due: 5 p.m. ET 1/14/16

Docket Numbers: ER16-637-000

Applicants: Public Service Company of New Mexico

Description: Initial rate filing: Three-Party Economic Benefit Contract to be effective 3/1/2016.

Filed Date: 12/28/15

Accession Number: 20151228-5080

Comments Due: 5 p.m. ET 1/19/16

Docket Numbers: ER16-638-000

Applicants: Golden Spread Electric Cooperative, Inc.

Description: § 205(d) Rate Filing: WPC 2016 eTariff Correction Filing to be effective 1/1/2016.

Filed Date: 12/28/15

Accession Number: 20151228-5105

Comments Due: 5 p.m. ET 1/19/16

Docket Numbers: ER16-639-000

Applicants: PacifiCorp

Description: § 205(d) Rate Filing: VA Salt Lake Non-Conforming SGIA to be effective 12/4/2015.

Filed Date: 12/28/15

Accession Number: 20151228-5143

Comments Due: 5 p.m. ET 1/19/16

Docket Numbers: ER16-640-000

Applicants: Otter Tail Power Company

Description: § 205(d) Rate Filing: Submission of Operational and Supplemental Services Agreement to be effective 1/1/2016.

Filed Date: 12/28/15

Accession Number: 20151228-5186

Comments Due: 5 p.m. ET 1/19/16

Take notice that the Commission received the following electric securities filings:

Docket Numbers: ES16-11-000

Applicants: Westar Energy, Inc.

Description: Supplement to December 11, 2015 Application under Section 204 of the Federal Power Act of Westar Energy, Inc.

Filed Date: 12/23/15

Accession Number: 20151223-5081

Comments Due: 5 p.m. ET 1/13/16

Docket Numbers: ES16-14-000

Applicants: Prairie Wind Transmission, LLC

Description: Supplement to December 11, 2015 Application of Prairie Wind Transmission, LLC under Section 204 of the Federal Power Act.

Filed Date: 12/23/15

Accession Number: 20151223-5098

Comments Due: 5 p.m. ET 1/13/16

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2015.
Nathaniel J. Davis, Sr.,
Deputy Secretary.

[FR Doc. 2015-33030 Filed 12-31-15; 8:45 am]

BILLING CODE 6717-01-P